COMMODITY FUTURES TRADING COMMISSION

Notice; Global Markets Advisory Committee Meeting

The Commodity Futures Trading Commission's Global Markets Advisory Committee will conduct a public meeting on Tuesday, July 15, 2008. The meeting will take place in the first floor hearing room of the Commission's Washington, DC headquarters, Three Lafayette Centre, 1155 21st Street, NW., Washington, DC 20581 from 1:30 p.m. to 4:30 p.m. The purpose of the meeting is to obtain information on the views of industry and market users concerning direct market access (DMA). Topics to be addressed will include the risks and benefits of DMA, including the challenges to risk management, how exchanges and intermediaries have responded to these risks and whether there is a need for industry-wide guidance.

The meeting is open to the public. Any member of the public who wishes to file a written statement with the Advisory Committee should mail a copy of the statement to the attention of: Global Markets Advisory Committee, c/o Chairman, Jill Sommers, Commodity Futures Trading Commission, Three Lafayette Centre, 1155 21st Street, NW., Washington, DC 20581, before the meeting. Members of the public who wish to make oral statements should inform Chairman Sommers in writing at the foregoing address at least three business days before the meeting. Reasonable provision will be made, if time permits, for oral presentations of no more than five minutes each in duration.

For further information concerning this meeting, please contact Andrew Morton at (202) 418-5030.

Issued by the Commission in Washington, DC on June 20, 2008.
David A. Stawick,
Secretary of the Commission.

[FR Doc. E8-14551 Filed 6-25-08; 8:45 am]

BILLING CODE 6351-01-P